DEPARTMENT OF STATE

[Public Notice: 11614]

Overseas Schools Advisory Council Notice of Meeting

The Department of State's Overseas Schools Advisory Council will hold its Winter Committee Meeting on Thursday, April 7, 2022, from 9:00 a.m. until approximately 12:00 p.m. If permitted, the members will meet in-person. To limit exposure, the meeting is open for the public to participate virtually only. If an in-person meeting is not permitted for the Advisory Council members due to local conditions, the meeting will be held exclusively online.

The Overseas Schools Advisory Council works closely with the U.S. business community on improving American-sponsored schools overseas that are assisted by the Department of State and attended by U.S. government employee dependents, and the children of employees of U.S. corporations and foundations abroad.

This meeting will address issues related to the support provided by the Overseas Schools Advisory Council to American-sponsored overseas schools. There will be a presentation on the status of the Council-sponsored Child Protection Project and Social Emotional Learning Project. Also, the Regional Education Officers in the Office of Overseas Schools will present on the initiatives in the American-sponsored overseas schools.

Public members may attend the meeting virtually, subject to the instructions of the Chair. Those interested in participating virtually should RSVP prior to April 7, 2022 to: Mr. Mark Ulfers, Office of Overseas Schools, Department of State, Tel: 202-261-8200, Email: OverseasSchools@state.gov.

The Department will send instructions for virtual participation to those that RSVP. Requests for reasonable accommodation should be sent prior to April 7. Requests sent after that date will be considered but may not be possible to fulfill.

Mark Ulfers,
Executive Secretary, Overseas Schools Advisory Council.

[FR Doc. 2022-05100 Filed 3-10-22; 8:45 am]

BILLING CODE 4710-24-P